SUSQUEHANNA RIVER BASIN COMMISSION

Public Hearing

AGENCY: Susquehanna River Basin Commission.

ACTION: Notice.

SUMMARY: The Susquehanna River Basin Commission will hold a public hearing on October 29, 2025. The Commission will hold this hearing in person and telephonically. At this public hearing, the Commission will hear testimony on the projects and actions listed in the Supplementary Information section of this notice. Such projects and actions are intended to be scheduled for Commission action at its next business meeting, scheduled for December 4, 2025, which will be noticed separately. The public should note that this public hearing will be the only opportunity to offer oral comments to the Commission for the listed projects and actions. The deadline for the submission of written comments is November 10, 2025.

DATES: The public hearing will convene on October 29, 2025, at 6:00 p.m. The public hearing will end at 9:00 p.m. or at the conclusion of public testimony, whichever is earlier. The deadline for submitting written comments is Monday, November 10, 2025.

ADDRESSES: This public hearing will be conducted in person and telephonically. You may attend in person at Susquehanna River Basin Commission, 4423 N Front St., Harrisburg, Pennsylvania, or join by telephone at Toll-Free Number 1-877-304-9269 and then enter the guest passcode 2619070 followed by #.

FOR FURTHER INFORMATION CONTACT: Jason Oyler, General Counsel and Secretary to the Commission, telephone: (717) 238-0423 or joyler@srbc.gov.

Information concerning the project applications is available at the Commission's Water Application and Approval Viewer at https://www.srbc.gov/waav. The proposed regulatory fee schedule is available on the Commission's website at https://www.srbc.gov/regulatory/public-participation/. Additional supporting documents are available to inspect and copy in accordance with the Commission's Access to Records Policy at www.srbc.gov/regulatory/policies-guidance/docs/access-to-records-policy-2009-02.pdf.

SUPPLEMENTARY INFORMATION: The public hearing will cover a proposed regulatory program fee schedule intended to become effective on January 1, 2026. The proposed changes to the fee schedule would apply an inflation-based cost of living adjustment to the many of the Commission's regulatory fees. The public hearing will also cover the following projects:

Projects Scheduled for Action

1. Project Sponsor: Aqua Pennsylvania, Inc. Project Facility: Monroe Manor System, Monroe Township, Snyder County, Pa. Application for renewal of groundwater withdrawal of up to 0.392 mgd (30-day average) from Well 6 (Docket No. 20101202).

2. Project Sponsor and Facility: Aquaport, LLC, Old Lycoming Township, Lycoming County, Pa. Application for groundwater withdrawal of up to 0.250 mgd (30-day average) from Well 1.

3. Project Sponsor and Facility: College Township Water Authority, College Township, Centre County, Pa. Application for renewal of groundwater withdrawal of up to 1.800 mgd (30-day average) from Spring Creek Park Well 1 (Docket No. 19990302).

4. Project Sponsor and Facility: Coterra Energy Inc. (Susquehanna River), Susquehanna Depot Borough, Susquehanna County, Pa. Application for renewal of surface water withdrawal of up to 1.500 mgd (peak day) (Docket No. 20201201).

5. Project Sponsor and Facility: Elizabethville Area Authority, Elizabethville Borough and Washington Township, Dauphin County, Pa. Applications for renewal of groundwater withdrawals (30-day averages) of up to 0.038 mgd from Well 3, 0.031 mgd from Well 4, and 0.036 mgd from Well 5 (Docket Nos. 19930907 and 19981203).

6. Project Sponsor: Essential Power Rock Springs, LLC. Project Facility: Rock Springs Generation Facility, Oakwood District, Cecil County, Md. Application for renewal of consumptive use of up to 0.262 mgd (peak day) (Docket No. 20001203).

7. Project Sponsor and Facility: Expand Operating LLC (Towanda Creek), Monroe Township and Monroe Borough, Bradford County, Pa. Application for renewal of surface water withdrawal of up to 1.500 mgd (peak day) (Docket No. 20201202).

8. Project Sponsor and Facility: Expand Operating LLC (Wyalusing Creek), Rush Township, Susquehanna County, Pa. Application for renewal with modification of surface water withdrawal of up to 3.000 mgd (peak day) (Docket No. 20220604).

9. Project Sponsor and Facility: Indian Trail Mountain Spring Water, Gratz Borough, Dauphin County, Pa. Application for renewal of consumptive use of up to 0.092 mgd (peak day) (Docket No. 20001205).

10. Project Sponsor and Facility: Moccasin Run Golf Club, Inc., West Fallowfield Township, Chester County, Pa. Application for renewal with modification of consumptive use of up to 0.249 mgd (30-day average) (Docket No. 20001204).

11. Project Sponsor: Mott's LLP. Project Facility: Aspers Plant, Menallen Township, Adams County, Pa. Request for extension and continued temporary operation under Emergency Certificate Modification issued July 18, 2025, authorizing temporary operational changes due to dry conditions. Considering extension of authorization term until future Commission action on pending applications for facility consumptive use and groundwater withdrawals from Wells 7, 9, 10, and 11.

12. Project Sponsor and Facility: Pennsylvania Grain Processing LLC, Clearfield Borough, Clearfield County, Pa. Application for groundwater withdrawal of up to 0.259 mgd (30-day average) from Well GW-1, and modification to add a source (Well GW-1) for consumptive use (Docket No. 20220909).

13. Project Sponsor and Facility: RES Coal LLC, Boggs Township, Clearfield County, Pa. Application for renewal with modification of consumptive use of up to 0.099 mgd (30-day average) (Docket No. 20120613).

14. Project Sponsor: Schuylkill County Municipal Authority. Project Facility: Tremont Service Area, Tremont Borough and Tremont Township, Schuylkill County, Pa. Applications for renewal of groundwater withdrawals (30-day averages) of up to 0.194 mgd from Well 4 and 0.087 mgd from Well 15 (Docket Nos. 19950103 and 19990902).

15. Project Sponsor and Facility: State College Borough Water Authority, Benner Township, Centre County, Pa. Applications for renewal of groundwater withdrawals (30-day averages) of up to 1.440 mgd from Well 71, 1.224 mgd from Well 73, 1.584 mgd from Well 78, and 0.576 mgd from Well 79 (Docket No. 19940903).

Opportunity To Appear and Comment

Interested parties may appear or call into the hearing to offer comments to the Commission on any business listed above required to be the subject of a public hearing. Given the nature of the meeting, the Commission strongly encourages those members of the public wishing to provide oral comments to pre-register with the Commission by emailing Jason Oyler at joyler@srbc.gov before the hearing date. The presiding officer reserves the right to limit oral statements in the interest of time and to control the course of the hearing otherwise. Access to the hearing via telephone will begin at 5:45 p.m. Guidelines for the public hearing are posted on the Commission's website, www.srbc.gov, before the hearing for review. The presiding officer reserves the right to modify or supplement such guidelines at the hearing. Written comments on any business listed above required to be the subject of a public hearing may also be mailed to Mr. Jason Oyler, Secretary to the Commission, Susquehanna River Basin Commission, 4423 North Front Street, Harrisburg, Pa. 17110-1788, or submitted electronically through https://www.srbc.gov/meeting-comment/default.aspx?type=2&cat=7. Comments mailed or electronically submitted must be received by the Commission on or before Monday, November 10, 2025.

Authority: Public Law 91-575, 84 Stat. 1509 et seq., 18 CFR parts 806, 807, and 808.

Dated: September 30, 2025.
Jason E. Oyler,
General Counsel and Secretary to the Commission.

[FR Doc. 2025-19386 Filed 10-2-25; 8:45 am]

BILLING CODE 7040-01-P